DEPARTMENT OF COMMERCE

International Trade Administration

[A-421-811]

Purified Carboxymethylcellulose From the Netherlands; Extension of Time Limit for Preliminary Results of Antidumping Duty Administrative Review

AGENCY: Import Administration, International Trade Administration, Department of Commerce.

SUMMARY: The Department of Commerce (the Department) finds that it is not practicable to complete the preliminary results of this review within the original time frame due to the need to complete a scheduled cost verification, report the procedures and results of the Department's sales verifications, and possibly request additional information from CP Kelco B.V. Accordingly, the Department is extending the time limit for completion of the preliminary results of this administrative review by 46 days, to May 18, 2009.

EFFECTIVE DATE: April 2, 2009.

FOR FURTHER INFORMATION CONTACT: Patrick Edwards, Brian Davis, or Angelica Mendoza, AD/CVD Operations, Office 7, Import Administration, International Trade Administration, U.S. Department of Commerce, 14th Street and Constitution Avenue, NW., Washington, DC 20230; telephone: (202) 482-8029, (202) 482-7924, or (202) 482-3019, respectively.

Background

The Department published an antidumping duty order on purified carboxymethylcellulose (CMC) from the Netherlands on July 11, 2005. See Notice of Antidumping Duty Orders: Purified Carboxymethylcellulose from Finland, Mexico, the Netherlands and Sweden, 70 FR 39734 (July 11, 2005). On July 11, 2008, the Department published a notice of “Opportunity to Request an Administrative Review” of this antidumping duty order for the period July 1, 2007, through June 30, 2008. See Antidumping or Countervailing Duty Order, Finding, or Suspended Investigation; Opportunity To Request Administrative Review, 73 FR 39948 (July 11, 2008). Also on July 11, 2008, CP Kelco B.V. and its U.S. affiliates (CP Kelco U.S., Inc. and J.M. Huber Corporation) timely requested that the Department initiate and conduct an administrative review for the period of review. On July 14, 2008, Aqualon Company, a division of Hercules Incorporated (petitioner), timely requested that the Department conduct an administrative review of sales of subject merchandise by Akzo Nobel Functional Chemicals B.V. (Akzo Nobel) and CP Kelco B.V. covered by the order. On July 31, 2008, Akzo Nobel timely requested that the Department conduct an administrative review of its sales of merchandise covered by the order.

In response to all three requests, the Department initiated an administrative review of the antidumping duty order on purified CMC from the Netherlands on August 26, 2008. See Initiation of Antidumping and Countervailing Duty Administrative Reviews, 73 FR 50308 (August 26, 2008).¹ The current deadline for the preliminary results of this review is April 2, 2009.

¹ On October 9, and October 10, 2008, respectively, Akzo Nobel and petitioner withdrew their requests for review of Akzo Nobel's sales of merchandise covered by the order. Therefore, the Department rescinded the review with respect to Akzo Nobel. See Purified Carboxymethylcellulose from the Netherlands: Partial Recession of Antidumping Duty Administrative Review, 73 FR 66841.

Extension of Time Limits for Preliminary Results

Section 751(a)(3)(A) of the Tariff Act of 1930, as amended (the Act), requires the Department to complete the preliminary results of an administrative review within 245 days after the last day of the anniversary month of an order for which a review is requested. However, if it is not practicable to complete the review within this time period, section 751(a)(3)(A) of the Act allows the Department to extend the time limit for the preliminary results to a maximum of 365 days after the last day of the anniversary month of an order for which a review is requested.

The Department finds that it is not practicable to complete the preliminary results of this review within the original time frame due to the need to complete a scheduled cost verification, report the procedures and results of the Department's sales verifications, and possibly request additional information from CP Kelco B.V. Accordingly, the Department is extending the time limit for completion of the preliminary results of this administrative review by 46 days to May 18, 2009. We intend to issue the final results no later than 120 days after publication of the preliminary results.

This extension is issued and published in accordance with sections 751(a)(3)(A) and 777(i) of the Act.

Dated: March 27, 2009.
John M. Andersen,
Acting Deputy Assistant Secretary for Antidumping and Countervailing Duty Operations.

[FR Doc. E9-7451 Filed 4-1-09; 8:45 am]

BILLING CODE 3510-DS-P